DEPARTMENT OF THE INTERIOR

Bureau of Land Management

(NV-050-1610-DO)

Supplement to the Notice of Intent Issued in Vol. 65, No. 74/ Monday, April 17, 2000, To Revise the Nellis Air Force Range Resource Plan and Prepare a New Environmental Impact Statement

AGENCY: Department of the Interior, Bureau of Land Management in cooperation with the Department of Defense, Nellis Air Force Base and the United States Fish and Wildlife Service.

ACTION: Supplement to the Notice of Intent. The Bureau of Land Management is providing updated information on the process, note the change in name of the plan, cooperating agencies status, planning criteria, and the area covered by the plan. There are no new significant issues to present. A separate notice of availability will be issued for the Draft Plan, in the near future.

COOPERATING AGENCY STATUS: The following are cooperating agencies in the planning effort: United States Fish and Wildlife Service, the Department of Defense, the Nevada Division of Wildlife, Nye County and Clark County. Native American interests are represented on the core team.

SUPPLEMENTARY INFORMATION:

1. The Name Change and Geographic Area Covered by the Resource Plan

The Name of the plan is changed from the Nellis Air Force Range Resource Plan to the Nevada Test and Training Range Resource Management (NTTR) Plan. The geographic area covered by the plan includes only those lands withdrawn from the BLM by Public Law 106-65, which is approximately 2 million acres. A map is available for review at the Las Vegas Field Office, 4765 W Vegas Drive, Las Vegas, Nevada 89108.

2. Preliminary Planning Criteria

A. Provide for military use and management of specified resources.

B. Actions must comply with laws, executive orders, and regulations including Public Law 106-65.

C. The planning area is defined as that portion of the NTTR which was withdrawn from the BLM. The NTTR plan will include planning determinations for all public lands located within the planning area boundary, including those public lands administered by the Department of Interior, the Department of Defense.

D. Decisions about specific range, wildlife, and watershed improvements will not be made in the NTTR plan, but rather in subsequent activity-level plans (i.e. habitat management plans, allotment management plans) designed to implement the NTTR plan decisions.

E. Management use and protection of water, water resources, riparian zones, and other related values will be given a high priority.

F. Use the Geographic Information System (GIS) when digitized information is available.

G. Watershed determinations will be based on hydrographic basins.

H. The NTTR plan will incorporate a method for amending the NTTR plan on a regularly scheduled basis.

I. The RMP will be consistent to the maximum extent possible with the plans and management programs of local governments, consistent with Federal laws and guiding regulations and coordinated with other Federal agencies where appropriate.

J. Participation by the public will be a factor in decision making. The Keystone Dialog will help guide preparation of the RMP based on previous coordination with the public.

K. Valid existing management decisions from the 1992 Nellis Air Force Range Resource Plan will be brought forward into the Draft NTTR Resource Management Plan, with relevant objectives and management directions carried forward into the NTTR plan.

L. The NTTR plan effort will rely on available inventories of the lands and resources as well as data gathered during the planning process to reach sound management decisions. Any decisions requiring additional inventories will be deferred until such times as the inventories can be conducted.

M. Provide for continued use of resources while maintaining a desired vegetative community, stabilized soils and visual quality.

O. Within the non-attainment area, Clark County Health District regulation will be followed.

3. Preliminary Plan Alternatives

Alternative A is the No Action Alternative. This alternative is the continuation of current management under the existing Nellis Air Force Range Management plan. This alternative provides a baseline for the comparison of the environmental effects of the other alternatives. Alternative B is the alternative supported by the BLM based on data which indicates horses were present in the early 70's throughout the vast majority of the North Range. This alternative adopts and documents the extent of the 1971 Herd Use Area and adopts that portion of the use area within the current NTTR boundary as the Herd Management Area. Further, a “core area” is identified that will be the basis for determining the AML for the entire HMA, in the future. The HMA boundary recognizes that animals will move out of the core area seasonally, but will use the core area the majority of the time.

Alternative C is substantially different than alternative B in that the HMA is limited to an area smaller than the core area of alternative B's HMA.

Alternative D identifies removal of all wild horses from the NTTR.

4. Disciplines Represented on the Planning Team

The RMP/EIS will be comprised of the following disciplines: Team Leader, Wild Horse and Burro Specialist, Wildlife Biologist, Archaeologist, Geologist, Reality Specialist, Hydrologist, Hazardous Material Specialist, Soil Scientist, Fire Management Specialist, Air Force Environmental Staff, Rangeland Management Specialist, Air Force Liaison, Department of Energy Environmental Staff, Riparian and Noxious Weed Specialist.

5. Public Participation

Public Scoping meetings were held as identified in the original Federal Register Notice. Informal public comments and input are encouraged throughout the development of the RMP/EIS. The next formal public comment period will be offered with the publication of the Draft NTTR RMP/EIS

6. Location of Planning Documents

Planning documents and other pertinent materials may be examined at the Las Vegas Field Office located in Las Vegas, Nevada between 7:30 am and 4:15, Monday through Friday.

ADDRESSES/FOR FURTHER INFORMATION CONTACT: For further information contact Jeffrey G. Steinmetz, Las Vegas Field Office Environmental Protection Specialist and Team Lead for the BLM at Bureau of Land Management, Las Vegas Field Office, 4765 W. Vegas Drive, Las Vegas, Nevada 89108, telephone (702)-647-5097.

Dated: March 6, 2001.
Mark T. Morse,
Field Manager.

[FR Doc. 01-8109 Filed 4-2-01; 8:45 am]

BILLING CODE 4310-HC-P